DEPARTMENT OF TRANSPORTATION

Federal Aviation Administration

14 CFR Part 71

[Docket No. FAA-2025-1275; Airspace Docket No. 25-AGL-11]

RIN 2120-AA66

Amendment of Class D and Class E Airspace; Elkhart and Goshen, IN

AGENCY: Federal Aviation Administration (FAA), DOT.

ACTION: Final rule.

SUMMARY: This action amends the Class D and Class E airspace at Elkhart, IN, and the Class E airspace at Goshen, IN, and updates the geographic coordinates of the Elkhart Municipal Airport, Elkhart, IN, and the Goshen Municipal Airport, Goshen, IN, to coincide with the FAA's aeronautical database. This action is the result of airspace reviews conducted due to the decommissioning of the Goshen very high frequency omnidirectional range (VOR) as part of the VOR Minimum Operational Network (MON) Program. It also brings the airspace into compliance with FAA orders and supports instrument flight rule (IFR) procedures and operations.

DATES: Effective 0901 UTC, November 27, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from the Office of the Federal Register's website at www.federalregister.gov.

FAA Order JO 7400.11J, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D and Class E airspace at the affected airports to support IFR operations.

History

The FAA published an NPRM for Docket No. FAA-2025-1275 in the Federal Register (90 FR 27478; June 27, 2025) proposing to amend the Class D and Class E airspace at Elkhart, IN, and the Class E airspace at Goshen, IN. Interested parties were invited to participate in this rulemaking effort by submitting written comments on the proposal to the FAA. No comments were received.

Incorporation by Reference

Class D and E airspace designations are published in paragraphs 5000 and 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 by modifying the Class D and E airspace at Elkhart, Indiana and the Class E airspace at Goshen, Indiana due to airspace reviews conducted as part of the decommissioning of the Goshen VOR as part of the VOR MON Program.

For the Elkhart Municipal Airport, Elkhart, IN, Class D airspace, this action: (1) increases the radius from 4.3 miles to 4.7 miles of the airport; (2) updates the geographic coordinates of the airport to coincide with the FAA's aeronautical database; (3) increases the exclusion area from 1 mile to 1.5 miles around Mishawaka Pilots Club Airport; (4) updates the title of the South Bend, Michiana Regional Airport, IN, (previously Michiana, IN) Class C airspace contained within the legal description; and (5) updates the outdated term “Airport/Facility Directory” to “Chart Supplement”;

For the Elkhart Municipal Airport Class E airspace extending upward from 700 ft above the surface, the action: (1) increases the radius from 6.8 miles to 7.2 miles of the airport; (2) adds an extension within 4 miles each side of the 270° bearing of the Elkhart Muni: RWY 27-LOC extending from the 7.2-mile radius to 11.4 miles west of the airport; (3) removes the exclusionary language as it is no longer required; and (4) updates the geographic coordinates of the airport to coincide with the FAA's aeronautical database;

For the Goshen Municipal Airport, Goshen, IN, Class E airspace extending upward from 700 ft above the surface, the action: (1) increases the radius from 6.8 miles to 7.9 miles of the airport; and (2) updates the geographic coordinates of the airport to coincide with the FAA's aeronautical database.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a.¹ This airspace action is not expected to cause any potentially significant environmental impacts, and no extraordinary circumstances exist that warrant preparation of an environmental assessment.

¹ The FAA has updated its environmental order with the issuance of FAA Order 1050.1G, “FAA National Environmental Policy Act Implementing Procedures”, effective June 30, 2025. The environmental review conducted in connection with this action predated that update and therefore is grandfathered under the previous version of the order.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace

* * * * *

AGL IN D Elkhart, IN [Amended]

Elkhart Municipal Airport, IN

(Lat 41°43′10″ N, long 86°00′12″ W)

Mishawaka Pilots Club Airport, IN

(Lat 41°39′25″ N, long 86°02′05″ W)

That airspace extending upward from the surface to and including 3,300 feet MSL within a 4.7-mile radius of the Elkhart Municipal Airport excluding that airspace within a 1.5-mile radius of the Mishawaka Pilots Club Airport; and excluding that portion which coincides with the South Bend, Michiana Regional Airport, IN, Class C airspace area. This Class D airspace area is effective during the specific dates and times established in advance by a Notice to Airmen. The effective dates and times will thereafter be continuously published in the Chart Supplement.

* * * * *

Paragraph 6005 Class E Airspace Areas Extending Upward From 700 Feet or More Above the Surface of the Earth

* * * * *

AGL IN E5 Elkhart, IN [Amended]

Elkhart Municipal Airport, IN

(Lat 41°43′10″ N, long 86°00′12″ W)

Elkhart Muni: RWY 27-LOC

(Lat 41°43′15″ N, long 86°01′21″ W)

That airspace extending upward from 700 feet above the surface within a 7.2-mile radius of Elkhart Municipal Airport; and within 4 miles each side of the 270° bearing from the Elkhart Muni: RWY 27-LOC extending from the 7.2-mile radius to 11.4 miles west of the airport.

* * * * *

AGL IN E5 Goshen, IN [Amended]

Goshen Municipal Airport, IN

(Lat 41°31′34″ N, long 85°47′39″ W)

That airspace extending upward from 700 feet above the surface within a 7.9-mile radius of Goshen Municipal Airport.

* * * * *

Issued in Fort Worth, Texas, on August 21, 2025.
Dallas W. Lantz,
Acting Manager, Operations Support Group, ATO Central Service Center.

[FR Doc. 2025-16199 Filed 8-22-25; 8:45 am]

BILLING CODE 4910-13-P